Title 3—

The President

Proclamation 7435 of May 8, 2001

Peace Officers Memorial Day and Police Week, 2001

By the President of the United States of America

A Proclamation

Each day, law enforcement officers encounter grave risk to protect the rights and freedoms we enjoy as Americans. Their commitment and sacrifice make our streets safer, our neighborhoods stronger, and our families more secure. Police Week provides an opportunity to recognize the selfless dedication of the brave men and women who devote their lives to protecting and serving our communities.

This Nation owes a considerable debt of gratitude to all law enforcement officers who protect the lives and property of their fellow Americans. From patrolling our highways, to investigating crime, to protecting victims' rights, these committed professionals make a valuable difference in our communities. We look to them to uphold the principle that no one is beyond the protection or reach of the law. These men and women, through their patriotic service and dedicated effort, have earned our gratitude and respect.

We pause during Police Week, and in particular on Peace Officers Memorial Day, to honor those officers who made the ultimate sacrifice while performing their sworn duty. I urge all Americans to use this occasion to pay tribute to these fallen heroes by recalling their devotion, celebrating their lives, and honoring their service.

Tragically, making America safer often requires great sacrifice. According to the National Law Enforcement Officers Memorial Fund, 150 law enforcement officers lost their lives in the line of duty in 2000. Although we can never repay the debt we owe these valiant officers and their families, we pay tribute to their memory by committing ourselves to being law-abiding citizens, working to lower crime in our communities, and investing time and love in our Nation's young people.

By a joint resolution approved October 1, 1962 (76 Stat. 676), the Congress has authorized and requested the President to designate May 15 of each year as “Peace Officers Memorial Day” and the week in which it falls as “Police Week,” and, by Public Law 103-322 (36 U.S.C. 136), has directed that the flag be flown at half-staff on Peace Officers Memorial Day.

NOW, THEREFORE, I, GEORGE W. BUSH, President of the United States of America, by virtue of the authority vested in me by the Constitution and laws of the United States, do hereby proclaim May 15, 2001, as Peace Officers Memorial Day and May 13 through May 19, 2001, as Police Week. I call upon all the people of the United States to observe this day with appropriate ceremonies and activities. I also call upon Governors of the United States and the Commonwealth of Puerto Rico, as well as appropriate officials of all units of government, to direct that the flag be flown at half-staff on Peace Officers Memorial Day. I also encourage all Americans to display the flag at half-staff from their homes on that day.

IN WITNESS WHEREOF, I have hereunto set my hand this eighth day of May, in the year of our Lord two thousand one, and of the Independence of the United States of America the two hundred and twenty-fifth.

B

[FR Doc. 01-12078

Filed 5-10-01; 8:45 am]

Billing code 3195-01-P